DEPARTMENT OF TRANSPORTATION

Federal Motor Carrier Safety Administration

[Docket No FMCSA-2011-0097]

Pilot Program on NAFTA Trucking Provisions

AGENCY: Federal Motor Carrier Safety Administration (FMCSA).

ACTION: Notice; correction.

SUMMARY: The FMCSA published a document in the Federal Register of April 24, 2013 concerning request for public comment on data and information concerning the Pre-Authorization Safety Audit (PASA) for RAM Trucking SA de CV (RAM) with U.S. Department of Transportation (USDOT) number 2063285. The notice is missing a date in Table 2, line one, column H.

FOR FURTHER INFORMATION CONTACT: Marcelo Perez, Telephone: (512) 916-5440 Ext. 228 or email marcelo.perez@dot.gov.

Correction

In the Federal Register, Volume 78, No. 79 of Wednesday, April 24, 2013, in the FR Doc. 2013-09691, on page 24295 in Table 2, correct Table 2, line one, column H, which is empty, to read:

Table 2—Successful Pre-Authorization Safety Audit (PASA) Information
[See also Tables 3 and 4]
Column A—row No. | Column B—name of carrier | Column C—US DOT No. | Column D—FMCSA register No. | Column E—PASA initiated | Column F—PASA completed | Column G—PASA results | Column H—FMCSA register | Column I—US drivers | Column J—US vehicles
1 | RAM Trucking SA de CV | 2063285 | MX-721816 | 07/23/2012 | 08/08/2012 | Pass | 4/22/2013 | 1 | 1

Issued on: April 26, 2013.
Larry W. Minor,
Associate Administrator, Policy.

[FR Doc. 2013-10528 Filed 5-2-13; 8:45 am]

BILLING CODE 4910-EX-P